DEPARTMENT OF ENERGY

Federal Energy Regulatory Commission

[Docket No. ER98-4421-002, et al.]

Consumers Energy Company, et al.; Electric Rate and Corporate Regulation Filings

October 31, 2001.

Take notice that the following filings have been made with the Commission:

1. Consumers Energy Company

[Docket No. ER98-4421-002]

Take notice that on October 26, 2001, Consumers Energy Company (Consumers) submitted to the Federal Energy Regulatory Commission (Commission) its triennial market analysis and status update as required in connection with the market-based sales authority granted to it in “Consumers” 85 FERC 61,121 (1998). A copy of the filing was served upon the Michigan Public Service Commission and those on the official service list in that proceeding, Docket No. ER98-4221-000.

Comment date: November 16, 2001, in accordance with Standard Paragraph E at the end of this notice.

2. Energy Atlantic, LLC

[Docket No. ER98-4381-006]

Take notice that on September 24, 2001, Energy Atlantic, LLC (Energy Atlantic) submitted an updated market analysis to the Federal Energy Regulatory Commission (Commission) in support of its market-based rate authority. Energy Atlantic reports that there are no changes in its status since Energy Atlantic obtained its market-based rate authority.

Comment date: November 13, 2001, in accordance with Standard Paragraph E at the end of this notice.

3. Central Maine Power Company

[Docket No. ER01-2493-001]

Take notice that on October 23, 2001, Central Maine Power Company tendered for filing with the Federal Energy Regulatory Commission (Commission) a settlement package, which includes Uncontested Settlement Agreement, Supplemental Informational Filing, Explanatory Statement In Support of Uncontested Settlement Agreement, Draft Order and a Certificate of Service.

Comment date: November 13, 2001, in accordance with Standard Paragraph E at the end of this notice.

4. Northeast Utilities Service Company; Connecticut—Long Island Cable

[Docket No. ER01-2584-001]

Take notice that on October 26, 2001, Northeast Utilities Service Company (NUSCO) submitted a compliance filing to the Federal Energy Regulatory Commission (Commission) in response to the October 11, 2001 order of the Federal Energy Regulatory Commission, Northeast Utilities Service Co., 97 FERC 61,026 (2001). NUSCO states that its compliance filing informs the Commission about the status of the proposed Connecticut—Long Island Cable (the CLIC) and submits the information requested by the Commission.

A copy of this filing was served upon all persons on the official service list in the captioned proceeding.

Comment date: November 16, 2001, in accordance with Standard Paragraph E at the end of this notice.

5. Southern Energy Retail Trading and Marketing, Inc.

[Docket No. ER02-1-001]

Take notice that on October 26, 2001, Southern Energy Retail Trading and Marketing, Inc. tendered for filing with the Federal Energy Regulatory Commission (Commission) an amendment to its October 1, 2001 Notice of Cancellation in the captioned docket, containing a revised tariff sheet.

Comment date: November 16, 2001, in accordance with Standard Paragraph E at the end of this notice.

6. Gilroy Energy Center, LLC; King City Energy Center, LLC

[Docket No. ER02-156-000 and ER02-169-000]

Take notice that on October 23, 2001, Gilroy Energy Center, LLC (Gilroy) and King City Energy Center, LLC (King City) filed with the Federal Energy Regulatory Commission (Commission) umbrella service agreements with Calpine Energy Services, L.P. for short-term transactions at market-based rates under Gilroy's and King City's respective rate schedules.

King City requests a waiver of the Commission's 60-day prior notice requirement to accept its attached umbrella service agreement with an effective date of December 13, 2001 to coincide with the commencement of service from King City to CES.

Comment date: November 13, 2001, in accordance with Standard Paragraph E at the end of this notice.

7. Cinergy Power Investments, Inc.

[Docket No. EG02-13-000]

Take notice that on October 29, 2001, Cinergy Power Investments, Inc., 139 East Fourth Street Cincinnati, Ohio 45202, filed with the Federal Energy Regulatory Commission (Commission), an application for determination of exempt wholesale generator status pursuant to Section 32(a)(1) of the Public Utility Holding Company Act of 1935, as amended. The applicant will be engaged directly or indirectly and exclusively in the business of owning and/or operating generating plants megawatt and selling electric energy at wholesale.

Comment date: November 21, 2001, in accordance with Standard Paragraph E at the end of this notice. The Commission will limit its consideration of comments to those that concern the adequacy or accuracy of the application.

8. Golden Spread Electric Cooperative, Inc.

[Docket No. ES02-5-000]

Take notice that on October 23, 2001, Golden Spread Electric Cooperative submitted an application pursuant to section 204 of the Federal Power Act seeking authorization to issue short-term and intermediate term debt in amounts such that the aggregate principal amount does not exceed $160 million at any one time.

Comment date: November 14, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27771 Filed 11-5-01; 8:45 am]

BILLING CODE 6717-01-P